FEDERAL HOUSING FINANCE BOARD

[No. 2007-N-08]

Submission for OMB Review; Comment Request

AGENCY: Federal Housing Finance Board.

ACTION: Notice.

SUMMARY: In accordance with the requirements of the Paperwork Reduction Act of 1995, the Federal Housing Finance Board (Finance Board) has submitted the information collection entitled “Members of the Banks” to the Office of Management and Budget (OMB) for review and approval of a 3 year extension of the OMB control number, 3069-0004, which is due to expire on May 31, 2007.

DATES: Interested persons may submit comments on or before June 8, 2007.

ADDRESSES: Submit comments to the Office of Information and Regulatory Affairs of the Office of Management and Budget, Attention: Desk Officer for the Federal Housing Finance Board, Washington, DC 20503.

FOR FURTHER INFORMATION CONTACT: Jonathan F. Curtis, Senior Financial Analyst, Regulations & Research Division, Office of Supervision, by e-mail at curtisj@fhfb.gov, by telephone at 202-408-2866, or by regular mail at the Federal Housing Finance Board, 1625 Eye Street, NW., Washington, DC 20006.

SUPPLEMENTARY INFORMATION:

A. Need For and Use of the Information Collection

Section 4 of the Federal Home Loan Bank Act (Bank Act) establishes the eligibility requirements an institution must meet in order to become a member of a Federal Home Loan Bank (Bank). See 12 U.S.C. 1424. Part 925 of the Finance Board regulations—the membership rule—implements section 4 of the Bank Act. See 12 CFR part 925. The membership rule provides uniform requirements an applicant for Bank membership must meet and review criteria a Bank must apply to determine if an applicant satisfies the statutory and regulatory membership eligibility requirements.

More specifically, the membership rule implements the statutory eligibility requirements and provides guidance to an applicant on how it may satisfy such requirements. The rule authorizes a Bank to approve or deny each membership application subject to the statutory and regulatory requirements and permits an applicant to appeal to the Finance Board a Bank's decision to deny certification as a Bank member. The rule also imposes a continuing obligation on a current Bank member to provide information necessary to determine if it remains in compliance with applicable statutory and regulatory eligibility requirements.

The information collection is contained in sections 925.2 through 925.31 of the membership rule, 12 CFR 925.2-925.31, and chapter 2 of the Data Reporting Manual, which contains instructions addressing data definitions as well as requirements concerning data elements, reporting format, reporting method (e.g., electronic or paper), record retention, timeliness, reporting frequency, and certification.¹ This information collection is necessary to enable a Bank to determine if a respondent satisfies the statutory and regulatory requirements to be certified initially and maintain its status as a member eligible to obtain Bank advances. The Finance Board requires and uses the information collection to determine whether to uphold or overrule a Bank's decision to deny member certification to an applicant.

¹ The Data Reporting Manual is available electronically on the Finance Board Web site: http://www.fhfb.gov/Default.aspx?Page=101.

The OMB control number for the information collection is 3069-0004, which is due to expire on May 31, 2007. The likely respondents are institutions that want to be certified as or are members of a Bank.

B. Burden Estimate

The Finance Board has analyzed the cost and hour burden for the four facets of the information collection: Membership application process, minimum capital stock calculation for applicants, membership withdrawals, and transfer of membership to another Bank district. The first notice inadvertently omitted the burden estimates for the last two of these four facets of the information collection. The estimate for the total annual hour burden for all applicant/member respondents is 4,770 hours. The estimate for the total annual cost burden is $789,285. These estimates are based on the following calculations:

Membership Application Process

The Finance Board estimates the total annual average number of applicants at 240, with 1 response per applicant. Of these 240 applicants, the Finance Board estimates that 1 applicant will appeal a Bank's membership determination to the Finance Board. The estimate for the average hours per application is 19.5 hours. The estimate for the average hours per appeal is 10 hours. The estimate for the annual hour burden for applicants is 4,690 hours (240 applicants × 1 response per applicant × 19.5 hours per response + 1 appellant × 1 appeal × 10 hours). The estimate for the total annual cost burden to applicants of the membership application process is $778,830.

Minimum Capital Stock Calculation for Applicants

The Finance Board has excluded minimum capital stock calculations for current Bank members from this information collection because the data already is compiled and accounted for in the information collection titled “Capital Requirements for the Federal Home Loan Banks.” See 72 FR 7036 (Feb. 14, 2007) and 72 FR 18479 (April 12, 2007). The Finance Board estimates the total annual average number of applicants at 240, with 1 response per applicant. The estimate for the average hours per capital stock calculation is 0.1 hours. The estimate for the annual hour burden for applicants is 24 hours (240 applicants × 1 response per applicant × 0.1 hours per response). The estimate for the total annual cost burden to applicants of the minimum capital stock calculation is $3,168.

Membership Withdrawals

The Finance Board estimates the total annual average number of members that will file to withdraw from Bank membership at 14, with 1 filing per member. The estimate for the average hours per filing is 3.5 hours. The estimate for the total annual hour burden for membership withdrawals is 49 hours (14 members × 1 filing × 3.5 hours). The estimate for the total annual cost burden to members of the withdrawal from membership process is $6,468.

Transfer of Membership to Another Bank District

The Finance Board estimates the total annual average number of members that may file to transfer membership to another Bank district at 2, with 1 filing per member. The estimate for the average hours per filing is 3.5 hours. The estimate for the total annual hour burden for membership transfers 7 hours (2 members × 1 filing × 3.5 hours). The estimate for the total annual cost burden to applicants of the transfer of membership process is $819.

C. Comment Request

In accordance with the requirements of 5 CFR 1320.8(d), the Finance Board published a request for public comments regarding this information collection in the Federal Register on February 14, 2007. See 72 FR 7036 (Feb. 14, 2007). The 60-day comment period closed on April 16, 2007. The Finance Board received no public comments.

Written comments are requested on: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology. Comments may be submitted to OMB in writing at the address listed above.

Dated: May 3, 2007.
By the Federal Housing Finance Board.
Neil R. Crowley,
Acting General Counsel.

[FR Doc. E7-8833 Filed 5-8-07; 8:45 am]

BILLING CODE 6725-01-P